SMALL BUSINESS ADMINISTRATION

[License No. 40002207]

AE Ventures Fund III LP; Notice Seeking Exemption Under Section 312 of the Small Business Investment Act, Conflicts of Interest

Notice is hereby given that AE Ventures Fund III LP, 6700 Broken Sound Parkway NW, Boca Raton, FL, 33487, Federal Licensee under the Small Business Investment Act of 1958, as amended (“the Act”), in connection with financings of a small business, has sought an exemption under Section 312 of the Act and 13 CFR 107.730, Financings which Constitute Conflicts of Interest of the Code of Federal Regulations. AE Ventures Fund III LP proposes to provide financing to All.Space Networks Limited, Unit 2-6. 64 Portman Road Reading, Berkshire RG30 1EA United Kingdom to support the company's growth in the United States.

The financing is brought within the purview of 13 CFR 107.730(a) of the regulations because AE Industrial HorizonX Venture Fund I, LP, AE Industrial HorizonX Co-Investment Fund I, LP and AE Industrial Partners Structured Solutions I, LP (“AE Industrial Partners”), Associates of AE Ventures Fund III LP, own more than ten percent of the All.Space Networks Limited. AE Ventures Fund III LP and AE Industrial Partners are Associates by virtue of Common Control, as those terms are defined in 13 CFR 107.50; therefore, this transaction is considered a financing which constitutes a conflict of interest.

Notice is hereby given that any interested person may submit written comments on the transaction, within fifteen days of the date of this publication, to the Associate Administrator for Investment, U.S. Small Business Administration, 409 Third Street SW, Washington, DC 20416.

Paul Salgado,
Director, Investment Portfolio Management, Office of Investment and Innovation.

[FR Doc. 2025-23302 Filed 12-17-25; 8:45 am]

BILLING CODE P